DEPARTMENT OF COMMERCE

International Trade Administration

[A-423-813]

Citric Acid and Certain Citrate Salts From Belgium: Final Results of Antidumping Duty Changed Circumstances Review

AGENCY: Enforcement and Compliance, International Trade Administration, Department of Commerce.

SUMMARY: On June 13, 2022, the U.S. Department of Commerce (Commerce) published the notice of initiation and preliminary results of the changed circumstances review (CCR) of the antidumping duty (AD) order on citric acid and certain citrate salts (citric acid) from Belgium. Commerce preliminarily determined that Citribel nv (Citribel) is the successor-in-interest to S.A. Citrique Belge N.V. (Citrique Belge) and, as a result, should be accorded the same AD cash deposit treatment as Citrique Belge with respect to subject merchandise. For these final results, Commerce continues to find that Citribel is the successor-in-interest to Citrique Belge and is entitled to the same cash deposit treatment as Citrique Belge under the AD order on citric acid from Belgium.

DATES: Applicable July 29, 2022.

FOR FURTHER INFORMATION CONTACT: Deborah Cohen, AD/CVD Operations, Office III, Enforcement and Compliance, International Trade Administration, Department of Commerce, 1401 Constitution Avenue NW, Washington, DC 20230; telephone: (202) 482-4521.

SUPPLEMENTARY INFORMATION:

Background

On June 13, 2022, Commerce published the Initiation and Preliminary Results ¹ of this CCR, finding that Citribel is the successor-in-interest to Citrique Belge and, as such, that Citribel is entitled to Citrique Belge's AD cash deposit rate with respect to entries of subject merchandise.² In the Initiation and Preliminary Results, we provided all interested parties with an opportunity to comment and request a public hearing regarding our preliminary results. No party requested a hearing, submitted a case brief, or otherwise commented on the Initiation and Preliminary Results.

¹ See Citric Acid and Certain Citrate Salts from Belgium: Notice of Initiation and Preliminary Results of Antidumping Duty Changed Circumstances Review, 87 FR 35738 (June 13, 2022) (Initiation and Preliminary Results).

² Id.

Scope of the Order ³

³ See Citric Acid and Certain Citrate Salts from Belgium, Colombia and Thailand: Antidumping Duty Orders, 83 FR 35214 (July 25, 2018) (Order).

The merchandise covered by this Order includes all grades and granulation sizes of citric acid, sodium citrate, and potassium citrate in their unblended forms, whether dry or in solution, and regardless of packaging type. The scope also includes blends of citric acid, sodium citrate, and potassium citrate; as well as blends with other ingredients, such as sugar, where the unblended form(s) of citric acid, sodium citrate, and potassium citrate constitute 40 percent or more, by weight, of the blend.

The scope also includes all forms of crude calcium citrate, including dicalcium citrate monohydrate, and tricalcium citrate tetrahydrate, which are intermediate products in the production of citric acid, sodium citrate, and potassium citrate.

The scope includes the hydrous and anhydrous forms of citric acid, the dihydrate and anhydrous forms of sodium citrate, otherwise known as citric acid sodium salt, and the monohydrate and monopotassium forms of potassium citrate. Sodium citrate also includes both trisodium citrate and monosodium citrate which are also known as citric acid trisodium salt and citric acid monosodium salt, respectively.

The scope does not include calcium citrate that satisfies the standards set forth in the United States Pharmacopeia and has been mixed with a functional excipient, such as dextrose or starch, where the excipient constitutes at least 2 percent, by weight, of the product.

Citric acid and sodium citrate are classifiable under 2918.14.0000 and 2918.15.1000 of the Harmonized Tariff Schedule of the United States (HTSUS), respectively. Potassium citrate and crude calcium citrate are classifiable under 2918.15.5000 and, if included in a mixture or blend, 3824.99.9295 of the HTSUS. Blends that include citric acid, sodium citrate, and potassium citrate are classifiable under 3824.99.9295 of the HTSUS. Although the HTSUS subheadings are provided for convenience and customs purposes, the written description of the merchandise is dispositive.

Final Results of Changed Circumstances Review

Having received no comments from interested parties and finding no information or evidence on the record that calls into question the preliminary results, we continue to find that Citribel is the successor-in-interest to Citrique Belge and, as such, that Citribel is entitled to Citrique Belge's AD cash deposit rate with respect to entries of subject merchandise for the reasons stated in the Initiation and Preliminary Results.⁴ As a result of this determination and consistent with established practice, we find that Citribel should receive the AD cash deposit rate previously assigned to Citrique Belge. Consequently, Commerce will instruct U.S. Customs and Border Protection to suspend liquidation of all shipments of subject merchandise produced and/or exported by Citribel and entered, or withdrawn from warehouse, for consumption on or after the publication date of this notice in the Federal Register at the AD cash deposit rate in effect for Citrique Belge. This cash deposit requirement shall remain in effect until further notice.

⁴ Initiation and Preliminary Results.

Administrative Protective Order

This notice serves as a final reminder to parties subject to administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

Notification to Interested Parties

This notice is published in accordance with sections 751(b)(1) and 777(i) of the Tariff Act of 1930, as amended, and 19 CFR 351.216(e).

Dated: July 22, 2022.
Lisa W. Wang,
Assistant Secretary for Enforcement and Compliance.

[FR Doc. 2022-16306 Filed 7-28-22; 8:45 am]

BILLING CODE 3510-DS-P